ENVIRONMENTAL PROTECTION AGENCY

[FRL-9300-9]

In the Matter of the Taylor Lumber and Treating Superfund Site, Sheridan, Oregon, Amendment to Agreement and Covenant Not To Sue, Pacific Wood Preserving of Oregon

AGENCY: Environmental Protection Agency (EPA).

ACTION: Notice; request for public comment.

SUMMARY: This Amendment to Agreement and Covenant Not to Sue (“Amendment”) amends the 2002 Agreement and Covenant Not To Sue, Docket CERCLA-10-2002-0034 (“Original Agreement”), entered into by and between the United States on behalf of the U.S. Environmental Protection Agency (“EPA”) and Pacific Wood Preserving of Oregon (“PWPO”). In accordance with the Comprehensive Environmental Response, Compensation, and Liability Act, 42 U.S.C. 9601 et seq. (“CERCLA”), notice is hereby given of the proposed Agreement between the EPA and PWPO, subject to the final review and approval of the EPA and the U.S. Department of Justice.

The 2002 Original Agreement with PWPO provided a covenant not to sue for response costs at the Taylor Lumber and Treating Site, which PWPO was acquiring, in exchange for several obligations related to site operation and a commitment not to use certain hazardous products, including pentachlorophenol, at the Site. This Amendment removes the restriction on pentachlorophenol use and extends PWPO's commitment to collect and treat groundwater and maintain the asphalt cap until January 31, 2022, or for as long as PWPO owns or operates on the Property, whichever is later. This Amendment includes additional commitments including submittal of annual environmental audit reports; implementation of institutional controls; payment of EPA future oversight costs; and, a revised Statement of Work for future work to be performed by PWPO.

DATES: Comments must be received on or before May 16, 2011.

ADDRESSES: The proposed settlement is available for public inspection at the U.S. EPA Region 10 office, located at 1200 Sixth Avenue, Seattle, Washington 98101. A copy of the proposed settlement may be obtained from Sharon Eng, Paralegal, U.S. EPA Region 10, Mail Stop ORC-158, 1200 Sixth Avenue, Suite 900, Seattle, Washington 98101; 206-553-0705. Comments should reference the Taylor Lumber and Treating Superfund Site in Sheridan, Oregon, EPA Docket No. CERCLA-10-2002-0034 and should be addressed to Jennifer Byrne, Assistant Regional Counsel, U.S. EPA Region 10, Mail Stop ORC-158, 1200 Sixth Avenue, Suite 900, Seattle, Washington 98101.

FOR FURTHER INFORMATION CONTACT: Jennifer Byrne, Office of Regional Counsel, Mail Stop: ORC-158, Environmental Protection Agency, 1200 Sixth Avenue, Suite 900, Seattle, WA, 98101; telephone number: 206-553-0050; fax number: 206-553-0163; e-mail address: byrne.jennifer@epa.gov.

Dated: April 25, 2011.
Daniel D. Opalski,
Director, Office of Environmental Cleanup.

[FR Doc. 2011-10567 Filed 4-29-11; 8:45 am]

BILLING CODE 6560-50-P